DEPARTMENT OF AGRICULTURE

Forest Service

Black Hills National Forest, Custer, South Dakota—Rushmore Connector Trail Project

AGENCY: Forest Service, USDA.

ACTION: Notice of intent to prepare an environmental impact statement.

SUMMARY: The U.S. Forest Service (Forest Service), Black Hills National Forest, proposes to issue authorizations for the construction, operation and maintenance of a non-motorized trail connecting the existing George S. Mickelson (Mickelson) Trail near Hill City, South Dakota, to the Blackberry Trailhead at Mount Rushmore National Memorial (the Memorial). New trail construction would extend approximately 14 miles across National Forest System (NFS) land and approximately 1.4 miles across National Park Service (NPS) lands within the Memorial. The trail would be a combination of compacted tread and elevated walkway, with a trail tread of about eight feet and corridor of about twenty feet. The proposed Rushmore Connector Trail would be constructed, operated and maintained by the proponent, State of South Dakota Department of Game, Fish and Parks (SDGFP).

DATES: Comments concerning the scope of the analysis must be postmarked no later than 30 (thirty) days from date of publication of this notice in the Federal Register. The draft environmental impact statement is expected November 2017, and the final environmental impact statement is expected March 2018.

ADDRESSES: Send written comments to Forest Supervisor, Black Hills National Forest, ATTN: Rushmore Connector Trail, 1019 N. 5th Street, Custer, SD 57730. Comments may also be sent via email to comments-rocky-mountain-black-hills@fs.fed.us, with “Rushmore Connector Trail” in the subject line. Electronic comments must be submitted in Word (.doc), Rich Text (.rtf), or Adobe Acrobat (.pdf) format. Open-house-style public meetings are planned, one each in Hill City and Rapid City, South Dakota, on Tuesday, June 14, and Thursday, June 16. Times and exact locations of these meetings will be announced on the Black Hills National Forest project Web site, http://www.fs.usda.gov/project/?project=44935.

FOR FURTHER INFORMATION CONTACT: Anne Apodaca, Forest Recreation and Trails Program Manager, Black Hills National Forest Supervisor's Office, 1019 N. 5th Street, Custer, SD 57730, phone (605) 673-9200. Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of this proposal is to respond to the application submitted by the State of South Dakota. The need is to evaluate the State's application to construct, operate and maintain a non-motorized recreation trail and associated corridor across NFS lands managed by the Black Hills National Forest, in order to determine effects as well as consistency with law, regulation, policy and guidance in the 1997 Revised Forest Plan for the Black Hills National Forest, as Amended (Forest Plan). This proposal would respond to Forest Plan Goal 4 (Provide for scenic quality, recreational opportunities and protection of heritage resources); Goal 7 (Emphasize cooperation with individuals, organizations, and other agencies in coordinating planning and implementing projects); and Goal 8 (Promote rural development opportunities).

Proposed Action

The proposed Rushmore Connector Trail, would be constructed, operated and maintained for non-motorized use. The proposal is based on the special use permit application and the George S. Mickelson Trail to Mt. Rushmore National Memorial Trail Feasibility Study, completed previously and provided by the SDGFP to the Forest Service. New trail construction would extend approximately 14 miles across NFS land and approximately 1.4 miles within the Memorial. The new trail is anticipated to be a combination of compacted tread and elevated walkway, with a trail tread width of approximately eight feet within a corridor approximately twenty feet wide. The trail would be designed to follow the Forest Service Trail Accessibility Guidelines and have grades no greater than 8-14 percent, depending on the resting interval. A right-of-way across private property would be required for a small segment of trail, approximately 0.1 mile. The proponent would secure this right-of-way at their expense, in the name of the U.S. Government.

The Rushmore Connector Trail would connect the existing Forest Service developed recreation facilities along the Peter Norbeck Scenic Byway (SD Highway 244), which it would cross at least three times. The Big Pine Trailhead would be relocated to the south side of the highway to improve trail user safety, and would provide the point for divergence of user groups. Equestrian users would be required to follow the existing Centennial National Recreation Trail (Trail 89) south for approximately 4.8 miles, of which 4.1 miles is located in the Black Elk Wilderness managed by the Forest Service. Existing management direction including party size limits would apply. Within the Memorial 0.72 miles of the existing Blackberry Trail would be utilized. Bicyclists would travel from Big Pine Trailhead on the proposed designated route, through the Horsethief Lake and Wrinkled Rock areas into the Memorial. Hikers could use either route. A Forest Plan amendment is proposed, to address several possible inconsistencies of the proposal with existing guidance regarding expansion of the recreational trail system and outfitter-guide permits in the Norbeck Wildlife Preserve, and party size limits in the Black Elk Wilderness.

If an action alternative were selected, the land beneath the trail would remain NFS land managed by the Black Hills National Forest. The trail facility itself would be constructed, operated and maintained by the State of South Dakota, under a special use permit issued by the Forest Service under authority of the Federal Land Policy and Management Act (FLPMA). The special use permit would allow the State to charge for use of the trail, as part of the general use fee for the Mickelson Trail. Any other fees proposed by the State to be implemented for portions of the proposed trail would require prior Forest Service approval with public involvement. Individual special events proposed on the trail would each require Forest Service approval with public involvement, and authorization under a special use permit.

Lead and Cooperating Agencies

Under terms of the National Environmental Policy Act (NEPA), the Forest Service is the lead agency for analysis of this proposal. The National Park Service, Mount Rushmore National Memorial, is a cooperating agency on this project. The NPS has special expertise and jurisdiction by law and would make a decision on whether to implement that portion of the proposed trail route on NPS lands. The Federal Highway Administration (FHWA) is also a cooperating agency on this project. FHWA may have a decision to make regarding funding of project work.

Responsible Officials

The Forest Service Responsible Official for this project is the Forest Supervisor, Black Hills National Forest, 1019 N. 5th Street, Custer, South Dakota 57730. Depending on the nature of the permit(s) that might be issued to implement an action alternative, the Regional Forester of the U.S. Forest Service, Rocky Mountain Region may also issue a decision on this project. The National Park Service Responsible Official for this project is the Superintendent of Mount Rushmore National Memorial. Some decisions may be required to be made by the NPS Regional Director, or through additional mandated rulemaking procedures.

Nature of Decision To Be Made

Based on the environmental analysis the Forest Supervisor of the Black Hills National Forest will make the following decisions:

• Whether to authorize construction, operation and maintenance of approximately 14 miles of non-motorized trail connecting the George S. Mickelson Trail to Mount Rushmore National Memorial near Hill City, South Dakota, as proposed, in some other manner and/or along an alternate route, or not at all;

• What if any design criteria, mitigation measures, and monitoring requirements should be required;

• Whether to amend existing Black Hills National Forest Plan direction to allow implementation of the selected alternative;

• Whether to authorize construction of a new campground in Section 33 or thereabouts, of Township 1 South, Range 5 East, Black Hills Meridian, to accommodate trail users and other Forest visitors;

• Whether to authorize reconstruction of the Highway 244 underpass near Willow Creek Campground and Palmer Gulch Campground, to facilitate use of the Rushmore Connector Trail with the existing Black Elk Wilderness and Norbeck Wildlife Preserve trail system;

• Whether to authorize construction of additional trailhead facilities north and west of the Norbeck Wildlife Preserve to provide additional access points to the Rushmore Connector Trail;

• Whether to reconstruct portions of the Centennial Trail, including sections in the Black Elk Wilderness, to address and mitigate use impacts;

• Whether to approve, in principle only, future special events within the capacity analyzed;

• Whether use limits should be imposed on trail use for segments outside of the Black Elk Wilderness;

• Whether to authorize additional outfitter-guide permits;

• Whether to authorize the implementation of use fees;

• Whether to authorize phased construction of the Rushmore Connector Trail on NFS lands prior to potential final rulemaking procedures for actions within Mount Rushmore National Memorial.

Some of these decisions may be reserved to the Regional Forester of the Rocky Mountain Region of the Forest Service. The level of individual decisions will be determined by the actions outlined through the NEPA process. If any action alternative is selected, project implementation could begin in the year 2018. The initial focus would be to issue authorizations and engineering design and layout.

Permits or Licenses Required

A special use permit issued by the Forest Service under FLPMA would be required before any action alternative could be implemented.

Scoping Process

This notice of intent initiates the scoping process, which guides the development of the environmental impact statement.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered; however, anonymous comments may not allow the Agency to provide the respondent with subsequent environmental documents.

Dated: May 25, 2016.
Jim Zornes,
Acting Forest Supervisor.

[FR Doc. 2016-13373 Filed 6-6-16; 8:45 am]

BILLING CODE 3410-11-P